DEPARTMENT OF VETERANS AFFAIRS

Change of Publication Manner for Invention Licenses

AGENCY: Department of Veterans Affairs.

ACTION: Notice.

SUMMARY: Currently, the Department of Veterans Affairs (VA) publishes notices of prospective exclusive, co-exclusive, or partially-exclusive domestic or foreign licenses of Government-owned inventions in the Federal Register. VA is announcing that it will begin publishing such notices at the Federal Laboratory Consortium for Technology Transfer (FLC) Business website (http://www.federallabs.org/licenses-list), providing opportunity for filing written objections within at least a 15-day period.

FOR FURTHER INFORMATION CONTACT: Dr. John J. Kaplan, Ph.D., J.D., Director, VA Technology Transfer Program (10X2TT), Department of Veterans Affairs, 810 Vermont Avenue NW, Washington, DC 20420; by email at John.Kaplan@va.gov, or by phone at (202) 632-7271 (this is not a toll-free number).

SUPPLEMENTARY INFORMATION: Pursuant to 37 CFR 404.7(a)(1)(i) and (b)(1)(i), an exclusive, co-exclusive, or partially-exclusive foreign license, may be granted on Government owned inventions only if notice of a prospective license has been published in the Federal Register or other appropriate manner, providing opportunity for filing written objections within at least a 15-day period. VA provides notice that it will publish future notices of prospective exclusive, co-exclusive, or partially-exclusive domestic or foreign licenses on FLC Business website (http://www.federallabs.org/licenses-list), providing opportunity for filing written objections within at least a 15-day period.

Signing Authority

The Secretary of Veterans Affairs, or designee, approved this document and authorized the undersigned to sign and submit the document to the Office of the Federal Register for publication electronically as an official document of the Department of Veterans Affairs. Robert L. Wilkie, Secretary, Department of Veterans Affairs, approved this document on September 5, 2019, for publication.

Dated: September 5, 2019.
Jeffrey M. Martin,
Assistant Director, Office of Regulation Policy & Management, Office of the Secretary, Department of Veterans Affairs.

[FR Doc. 2019-19952 Filed 9-13-19; 8:45 am]

BILLING CODE 8320-01-P